NATIONAL SCIENCE FOUNDATION

Sunshine Act Meetings

The National Science Board (NSB) hereby gives notice of the scheduling of a meeting of the Executive Committee of the National Science Board for the transaction of National Science Board business pursuant to the NSF Act and the Government in the Sunshine Act.

TIME AND DATE: The NSB Executive Committee meeting is scheduled for Tuesday, April 1, 2025, from 4:00-5:00 p.m. Eastern.

PLACE: This meeting of the NSB Executive Committee will be held via video conference through the National Science Foundation, 2415 Eisenhower Avenue, Alexandria, VA 22314.

STATUS: Closed.

MATTERS TO BE CONSIDERED: The agenda is: Director's update on recent and planned activity.

CONTACT PERSON FOR MORE INFORMATION: Point of contact for this meeting is: Chris Blair, cblair@nsf.gov, 703/292-7000. Meeting information and updates may be found at www.nsf.gov/nsb.

Christopher Blair,
Executive Assistant to the National Science Board Office.

[FR Doc. 2025-05272 Filed 3-24-25; 4:15 pm]

BILLING CODE 7555-01-P